DEPARTMENT OF COMMERCE

National Oceanic and Atmospheric Administration

[RTID: 0648-XC600]

Fisheries of the South Atlantic; National Marine Fisheries Service—Public Meetings

AGENCY: National Marine Fisheries Service (NMFS), National Oceanic and Atmospheric Administration (NOAA), Commerce.

ACTION: Notice of dolphin management strategy stakeholder workshops.

SUMMARY: The National Marine Fisheries Service will hold a series of in-person workshops on January 23, January 24, January 25, and January 26, 2023.

DATES: The workshop will be held on Monday, January 23, 2023 from 5:30 p.m. until 8:30 p.m. EDT, on Tuesday, January 24, 2023 from 5:30 p.m. until 8:30 p.m. EDT, on Wednesday, January 25, 2023 from 5:30 p.m. until 8:30 p.m. EDT, and on Thursday, January 26, 2023 from 5:30 p.m. until 8:30 p.m. EDT.

ADDRESSES: Meeting address: The meeting is open to members of the public. The workshop on January 23 will be held at the South Carolina Department of Natural Resources, Marine Resources Research Institute, Room 145, 217 Ft. Johnson Road, Charleston, SC 29412. The workshop on January 24 will be held at the UNCW—Center for Marine Science, 5600 Marvin Moss Lane, Wilmington, NC 28409. The workshop on January 25 will be held at the Coastal Studies Institute, Room 242, 850 NC-345, Wanchese, NC 27981. The workshop on January 26 will be held at the Brock Environmental Center, 3663 Marlin Bay Drive, Virginia Beach, VA 23455. Those interested in participating should contact Cassidy Peterson (see FOR FURTHER INFORMATION CONTACT below).

FOR FURTHER INFORMATION CONTACT: Cassidy Peterson, Management Strategy Evaluation Specialist, NMFS Southeast Fisheries Science Center, phone (910) 708-2686; email: Cassidy.Peterson@noaa.gov.

SUPPLEMENTARY INFORMATION: In collaboration with the South Atlantic Fishery Management Council, NMFS is embarking on a Management Strategy Evaluation (MSE) to guide dolphin (i.e. dolphinfish or mahi mahi) management in the jurisdiction. The MSE will be used to develop a management procedure that best achieves the suite of management objectives for the U.S. Atlantic dolphin fishery. Stakeholder input is necessary for characterizing the management objectives of the fishery and stock, identifying any uncertainties in the system that should be built into the MSE analysis, and providing guidance on the acceptability of the proposed management procedures.

Agenda items for the meeting include: developing an understanding of management procedures and management strategy evaluation, developing conceptual management objectives, and clarifying uncertainties that should be addressed within the framework.

Special Accommodations

These meetings are physically accessible to people with disabilities. Requests for auxiliary aids should be directed to Cassidy Peterson (see contact information above) five (5) days prior to the meeting.

Note: The times and sequence specified in this agenda are subject to change.

Authority: 16 U.S.C. 1801 et seq.

Dated: December 6, 2022.
Jennifer M. Wallace,
Acting Director, Office of Sustainable Fisheries, National Marine Fisheries Service.

[FR Doc. 2022-26851 Filed 12-8-22; 8:45 am]

BILLING CODE 3510-22-P